DEPARTMENT OF COMMERCE

National Oceanic and Atmospheric Administration

50 CFR Part 600

[I.D. 070102B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject exempted fishing permit (EFP) application contains all the required information and warrants further consideration. The Regional Administrator has also made a preliminary determination that the activities authorized under the EFP would be consistent with the goals and objectives of the Northeast Multispecies Fishery Management Plan (FMP). However, further review and consultation may be necessary before a final determination is made to issue the EFP.

Regulations under the Magnuson-Stevens Fishery Conservation and Management Act require publication of this notification to provide interested parties the opportunity to comment on applications for proposed EFPs.

DATES: Comments on this document must be received on or before July 25, 2002.

ADDRESSES: Written comments should be sent to Patricia A. Kurkul, Regional Administrator, NMFS, Northeast Regional Office, 1 Blackburn Drive, Gloucester, MA 01930. Mark the outside of the envelope “Comments on UNH Codend Selectivity EFP Proposal.” Comments may also be sent via facsimile (fax) to (978) 281-9135.

FOR FURTHER INFORMATION CONTACT: Richard A. Pearson, Fishery Policy Analyst, 978-281-9279.

SUPPLEMENTARY INFORMATION: NMFS announces that the Regional Administrator proposes to issue an EFP that would allow one commercial vessel to conduct fishing operations that are otherwise restricted by the regulations governing the fisheries of the Northeastern United States. The EFP would allow for exemptions from the Northeast (NE) multispecies days-at-sea (DAS) notification requirements at 50 CFR 648.10(c) and 648.82(a); the Gulf of Maine (GOM) Rolling Closures specified at 50 CFR 648.81; and the NE multispecies minimum mesh size requirements specified for the GOM Regulated Mesh Area at 50 CFR 648.80, for 5 days of at-sea gear testing.

This application for an EFP was submitted by the University of New Hampshire (UNH) Cooperative Extension for research funded through the Northeast Consortium. The applicant proposes to design, develop and test a hydrodynamic trawl-net codend outer "cover" for use in future, long-term, fishing trawl-net codend selectivity studies in the GOM not to exceed 5 days of at-sea trials. Floats, weights and kites would be positioned outside of the codend to hold a small-mesh net that surrounds the codend. The objective of the research is to develop a design and methodology for collecting fish that would otherwise escape from the codend of a trawl net. This would enable the researchers to quantify the amount of fish that escape and are retained by the codend. The researchers will use alternate tows both with and without the "cover" to evaluate any differences in fish retention. Also, underwater video technology will be employed to observe the codend, the "cover," and the fish escaping from the codend.

UNH researchers would be aboard the vessel at all times during the experimental work. All undersized fish and/or protected species would be returned to the sea as quickly as possible after measurement and examination. Legal-sized fish that otherwise would have to be discarded would be allowed to be retained and sold. The participating vessel would be required to report all landings in its Vessel Trip Report.This experimental work is important because large amounts of undersized, regulated fish species may sometimes be caught and discarded, despite the use of legal-sized mesh. The successful development of a codend "cover" would facilitate future, long-term, mesh selectivity studies to determine appropriate codend mesh sizes and shapes in the GOM that reduce the catch of undersized fish, yet still retain legal-sized fish. Improved selectivity of trawl nets could ultimately provide for additional conservation of overfished species, such as GOM cod.

Regulations under the Magnuson-Stevens Fishery Conservation and Management Act require publication of this notification to provide interested parties the opportunity to comment on applications for proposed EFPs.

Based on the results of this EFP, this action may lead to future rulemaking.

Authority: 16 U.S.C. 1801 et seq.

Dated: July 5, 2002.
Virginia M. Fay,
Acting Director, Office of Sustainable Fisheries, National Marine Fisheries Service.

[FR Doc. 02-17332 Filed 7-9-02; 8:45 am]

BILLING CODE 3510-22-S